DEPARTMENT OF HEALTH AND HUMAN SERVICES

Centers for Disease Control and Prevention

[30-Day-20-1180]

Agency Forms Undergoing Paperwork Reduction Act Review

In accordance with the Paperwork Reduction Act of 1995, the Centers for Disease Control and Prevention (CDC) has submitted the information collection request titled Airline and Vessel Traveler Information Collection (42 CFR part 71) to the Office of Management and Budget (OMB) for review and approval. CDC previously published a “Proposed Data Collection Submitted for Public Comment and Recommendations” notice on December 23, 2019 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Airline and Vessel Traveler Information Collection (42 CFR part 71) (OMB Control No. 0920-1180, Exp. 05/31/2020)—Revision—Division of Global Migration and Quarantine (DGMQ), National Center for Emerging Zoonotic and Infectious Diseases (NCEZID), Centers for Disease Control and Prevention (CDC).

Background and Brief Description

Under the Public Health Service Act (42 United States Code § 264), and under 42 Code of Federal Regulations (CFR) §§ 71.4 and 71.5, CDC can order air carriers and maritime vessels arriving from another country to submit a certain information related to passengers and crew that CDC believes were exposed to or infected with a communicable disease that poses a risk of spread in the United States.

Stopping a communicable disease outbreak—whether it is naturally occurring or intentionally caused—requires the use of the most rapid and effective public health tools available. Basic public health practices, such as collaborating with airlines in the identification and notification of potentially exposed contacts, are critical tools in the fight against the introduction, transmission, and spread of communicable diseases in the United States.

The collection of pertinent contact information enables Quarantine Public Health Officers in CDC's Division of Global Migration and Quarantine (DGMQ) to notify state and local health departments in order for them to make contact with individuals who may have been exposed to a communicable disease during travel and identify appropriate public health interventions.

In the event that there is a confirmed case or suspected exposure of communicable disease of public health concern aboard an aircraft or maritime vessel, or an outbreak in a geographic location, CDC can require that airlines provide certain traveler contact information at risk for exposure. The information collection differs depending on the communicable disease that is confirmed or suspected during air or maritime travel, or in a geographic location during an outbreak. CDC uses this passenger and crew manifest information to coordinate with state and local health departments so they can follow-up with residents who live or are currently located in their jurisdiction. In general, state and local health departments are responsible for this public health follow-up. In rare cases, CDC may use the manifest data to perform the contact investigation directly. In either case, CDC works with state and local health departments so that individuals can receive appropriate public health follow-up.

This revision is requesting minor changes to the verbiage of the international manifest order forms used under 42 CFR 71.4(a) and (b) to clarify the information required by CDC to conduct a contact investigation and to provide general grammatical improvements to enhance clarity. The number of estimated international manifests ordered from the air carriers in response to a confirmed case or suspected exposure after arrival is increased given CDC's experience with the 2019 measles outbreak and the current COVID-19 outbreak.

Additionally, under the Interim Final Rule published on February 7, 2020 adding 42 CFR 71.4(d),and the subsequent February 18, 2020 Order under 42 CFR 71.31 and 71.4, CDC is seeking through this revision to update the estimated burden and outline the information collection process associated with the requirement that airlines collect contact information from travelers and provide that information to CDC via existing mechanisms, such as PNR, APIS, and eAPIS, on a continuous basis following an order from the Director.

While CDC can require maritime vessels to submit traveler information under 42 CFR 71.5, this happens very rarely (less than 10 times on an annual basis) and so the burden is not accounted for in this Notice.

The total estimated hourly burden to respondents as a result of this information collection is 1,835,134 hours per year. While CDC has included maritime conveyance manifest orders in the public health rationale for this information collection, these orders occur less than 10 times a year and are not included in the burden table. CDC does not anticipate any cost burden to respondents under the manifest process as outlined in 42 CFR 71.4(a) and (b), as this only requires airlines to provide the information if it is available and maintained.

Under the February 7, 2020 IFR, CDC anticipates that some 12 US major carriers and 61 major foreign carriers will modify their data systems, or contract with third party reservation system providers, to ensure that the information required under the IFR is transmitted using existing mechanisms to CBP (e.g., PNR, APIS, eAPIS). CDC estimates that these changes will cost approximately $700,000 per carrier for a total cost of $51,100,000. Smaller revenue airlines will also have access to eAPIS to submit the information if they do not plan to modify their data systems. That functionality is already available under the management of U.S. Customs and Border Protection.

Type of respondent | Form name | Number of respondents | Number of responses per respondent | Average burden per response (in hours)
Airline Medical Officer or Equivalent/Computer and Information Systems Manager | International TB Manifest Template | 51 | 1 | 360/60
Airline Medical Officer or Equivalent/Computer and Information Systems Manager | International Non-TB Manifest Template | 249 | 1 | 360/60
International Passengers (3rd party disclosure) | No Form | 110,000,000 | 1 | .5/60
Airline staff | No Form | 110,000,000 | 1 | .5/60

Jeffrey M. Zirger,
Acting Lead, Information Collection Review Office, Office of Scientific Integrity, Office of Science, Centers for Disease Control and revention.

[FR Doc. 2020-07976 Filed 4-15-20; 8:45 am]

BILLING CODE 4163-18-P